DEPARTMENT OF AGRICULTURE

Forest Service

Availability of an Environmental Assessment for an amendment to the Finger Lakes National Forest Land and Resource Management Plan; Schuyler Country, New York

AGENCY: Forest Service, USDA.

ACTION: Notice of Availability of an Environmental Assessment.

SUMMARY: On March 26, 1999, Finger Lakes National Forest District Ranger, Martha Twarkins, set forth a proposal to amend the 1987 Finger Lakes National Forest Land and Resource Management Plan (Forest Plan). In mid May of 2001, Acting Forest Supervisor Tamara Malone (responsible official) plans to make the resultant Environmental Assessment available for a 30 day public comment period. Copies of the environmental Assessment will be available upon request. The current preferred alternative (the Mountain Bike Alternative), would relocate a one mile portion of the No-Tan-Takto Trail from off of a busy town road and onto newly acquired land. The newly acquired land would be classified into Management Area 3.1, (which emphasizes evenaged timber management and roaded natural recreation). It would also allow for mountain bike use on the Trail. All comments received will be evaluated, and may result in supplementation of the Environmental Assessment or be incorporated into the final decision.

This notice is provided pursuant to section 10(c) of the Act and National Environmental Policy Act regulations (40 CFR 1506.6, 453 FR 55990) and National Forest System Land and Resource Management Planning regulations (36 CFR 219.35, 65 FR 6745145)).

DATES: On March 26, 1999, Finger Lakes National Forest District Ranger, Martha Twarkins, set forth a proposal to amend the 1987 Finger Lakes National Forest Land and Resource Management Plan (Forest Plan). In mid May of 2001, Acting Forest Supervisor Tamara Malone (responsible official) plans to make the resultant Environmental Assessment available for a 30 day public comment period.

ADDRESSES: Send requests for documents to: Forest Supervisor, Green Mountain and Finger Lakes National Forest, 231 North Main Street, Rutland, Vermont 05701.

FOR FURTHER INFORMATION CONTACT: Christopher Zimmer, Forester/Recreation Planner, at 607-546-4470 ext. 311 TDD 607-546-4476; or direct electronic mail to: czimmer@fs.fed.us.

RESPONSIBLE OFFICIAL: Tamara S. Malone, Acting Forest Supervisor, 231 North Main Street, Rutland, Vermont 05701.

SUPPLEMENTARY INFORMATION: This amendment would apply to the No-Tan-Takto Trail and 71 acres of newly acquired land on the Finger Lakes National Forest in the form of amending the Land and Resource Management Plan to allow for Mountain use on the No-Tan-Takto Trail as well as long term management of the newly acquired lands. This is a non-significant amendment.

Dated: April 30, 2001.
Tamara S. Malone,
Acting Forest Supervisor.

[FR Doc. 01-11373 Filed 5-4-01; 8:45 am]

BILLING CODE 3410-11-M